DEPARTMENT OF AGRICULTURE

Farm Service Agency

Initial Notice of Funds Availability Inviting Applications for the Implementation of an American Indian Targeted Credit Outreach Program

Announcement Type: Initial Notice of Funds Availability (NOFA) inviting applications from qualified organizations for Fiscal Year 2005 funding.

Catalog of Federal Domestic Assistance Number and Program: 10.443: Outreach and Assistance for Socially Disadvantaged Farmers and Ranchers.

SUMMARY: The Farm Service Agency (FSA) announces it is taking applications for a competitive cooperative agreement for Fiscal Year (FY) 2005 to initiate a credit outreach initiative targeted to American Indian farmers, ranchers, and youth residing primarily on Indian reservations within the contiguous 48 States. FSA requests proposals from eligible non-profit organizations, land grant institutions, and federally-recognized Indian tribal governments interested in a competitively-awarded cooperative agreement to create and implement a mechanism that will provide credit outreach and promotion, pre-loan education, one-on-one loan application preparation assistance, and other related services as proposed by the successful applicant that are specific to FSA's Agricultural Credit Programs.

This is a request for proposals for applications for the American Indian Targeted Credit Outreach Program (AITCOP) for FY 2005, subject to the availability of funds. FY 2004 funding for the AITCOP was $1,599,951. This notice is being issued prior to passage of a final appropriations bill to allow applicants sufficient time to submit proposals, give the Agency maximum time to process applications and to permit the continuity of this program while minimizing the time a prior program is administered. A Notice of Funds Availability (NOFA) will be published announcing the funding level for FY 2005 once an appropriation has been enacted. The commitment of program funds will be made to an applicant from selected responses that have fulfilled the necessary requirements for obligation to the extent announced in the subsequent NOFA.

Proposals should demonstrate ways of ensuring that American Indians will (1) Be provided a targeted promotional campaign about, (2) have ready access to, (3) be educated about, and (4) be able to obtain one-on-one assistance specific to the various FSA Agricultural Credit Programs. Applicants must also demonstrate and provide evidence of their ability to record and track program-specific data that can be accessed on a real-time basis and be available online through the Internet. In addition, the successful applicant must provide evidence that it has in place, or demonstrated the capability to put in place, a data-tracking system that thoroughly records all credit outreach-specific related activities and has the ability to provide detailed statistical information on an ad hoc basis. The database must also be built using software that is functional on a real-time basis as well as being available online through the Internet. Additionally, the applicant must demonstrate its ability to deliver these credit outreach services utilizing the FSA Online Business Plan software program upon acceptance of any financial award.

DATES: Applications should be completed and submitted as soon as possible, and must be received by the Agency no later than 5 p.m. eastern time, October 18, 2004.

SUPPLEMENTARY INFORMATION:

I. Paperwork Reduction Act

This notice does not involve a collection of information as defined by section 1320.3(c) of 5 CFR part 1320 because it will not involve the collection of information from 10 or more persons.

II. Funding Opportunity Description

Background

Today, American Indians own and control approximately 56 million acres of agricultural lands held in trust by the United States Government and administered, for the most part, by the Bureau of Indian Affairs (BIA). Land-based agricultural enterprises are considered the primary source of revenue for most tribes, due in large part to their severe isolation from any urban type industrial development activities. Thus, protecting this resource is an important function of the elected tribal officials charged with operating business activities that take place within reservations.

With this in mind, American Indian agribusinesses, as well as individual Indians have consistently reported that the primary need in Indian agriculture was access to the capital required to own and operate their own farms or ranches. Therefore, FSA has undertaken this initiative to create and implement a mechanism that will provide credit outreach and other related services related to FSA's Agricultural Credit Programs as a way to resolve some of the credit needs of Indian agriculture.

Definitions

The following definitions are applicable to this NOFA:

Agency or FSA: The United States Department of Agriculture Farm Service Agency or its successor agency.

Farm Land: Land used for commercial agriculture crops, poultry and livestock enterprises, or aquaculture.

Federally-Recognized Indian Tribal Government: The governing body or a governmental agency of any Indian tribe, band, nation, or other organized group or community (including any Native village as defined in Section 3 of the Alaska Native Claims Settlement Act (85 Stat. 688)) certified by the Secretary of the Interior as eligible for the special programs and services provided through the Bureau of Indian Affairs.

Land Grant Institution:

(1) A 1994 institution (as defined in Section 2 of the Agricultural Research, Extension, and Education Reform Act of 1998 (7 U.S.C. 7601)), or an 1890 institution;

(2) An Indian tribal community college or an Alaska Native cooperative college; or

(3) A Hispanic-serving institution (as defined in section 1404 of the National Agricultural Research, Extension, and Teaching Policy Act of 1977 (7 U.S.C. 3103)).

Non-Profit Organization: Any corporation, trust, association, cooperative, or other organization that:

(1) Is operated primarily for scientific, educational, service, charitable, or similar purposes in the public interest;

(2) Is not organized primarily for profit; and

(3) Must be an organization that is recognized by the Internal Revenue Service as being exempt from Federal income tax under section as 501(3)(c) of the Internal Revenue Code.

III. Award Information

One cooperative agreement will be awarded. Approximately $1,600,000 is expected to be made available for FY 2005. Cooperative agreement funds may be used to cover allowable costs incurred by the recipient and approved by the Agency. Allowable costs will be governed by 7 CFR parts 3015, 3016, and 3019 and applicable Office of Management and Budget Circulars.

IV. Eligibility Information

1. Eligible Applicants

Applicants must be either non-profit organizations, federally recognized Indian tribes or land grant institutions, as defined in the Definitions section of this NOFA. Applications without sufficient information to determine their eligibility will not be considered.

2. Cost-Sharing or Matching

There are no provisions for cost-sharing or matching.

V. Application and Submission Information

1. Address To Request Application Package

The forms required for an application as described below and for subsequent reporting by the successful applicant may be obtained from Mike Hill, Associate Director, Outreach Staff, Farm Service Agency, USDA, STOP 0511, Room 3716-S, 1400 Independence Avenue, SW., Washington, DC 20250-0511, phone: (202) 690-1299, fax: (202) 690-4727, or e-mail: mike.hill@wdc.usda.gov.

All other information described below is to be provided by the applicant.

2. Content and Form of Application

(a) Form SF-424, “Application for Federal Assistance.”

(b) Form SF-424A, “Information—Non-Construction Programs.”

(c) Form SF-424B, “Assurances—Non-Construction Programs.”

(d) Table of Contents—For ease of locating information, each application must contain a detailed Table of Contents immediately following the required Federal forms. The Table of Contents should include page numbers for each component of the application. Pagination should begin immediately following the Table of Contents.

(e) Proposal Summary—A summary of the Project Proposal, not to exceed one page, that includes the title of the project, a description of the project (including goals and tasks to be accomplished), the names of the individuals responsible for conducting and completing the tasks, and the expected time frame for completing all tasks (which should not exceed twelve months).

(f) Eligibility—A detailed discussion, not to exceed two pages, describing how the applicant meets the definition of land grant institution, non-profit organization, or federally recognized Indian tribal government, as outlined in the “Recipient Eligibility Requirements” section of this NOFA. In addition, the applicant must describe all other collaborative organizations that may be involved in the project.

(g) Proposal Narrative—The narrative portion of the project proposal must be in a font such as Times New Roman, 12 pt. or comparable font, and must include the following:

(h) Project Title—The title of the proposed project must be brief, not to exceed 100 characters, yet represent the major thrust of the project.

(i) Information Sheet—A separate one page information sheet that lists each of the evaluation criteria listed in this NOFA under the “Evaluation Criteria and Weights” subsection followed by the page numbers of all relevant material and documentation contained in the proposal which address or support that criteria.

(j) Goals and Objectives of the Project—A clear statement of the ultimate goals and objectives of the project must be presented.

3. Submission Date

The deadline for receipt of all applications is 5 p.m. eastern time, October 18, 2004. The Agency will not consider any applications received after the deadline. Late applications will not be accepted and will be returned to the applicant. Applicants must ensure that the service they use to deliver their applications can do so by the deadline. Due to recent security concerns, packages sent to the Agency by mail have been delayed several days or even weeks.

4. Submission of Applications

Submit applications and other required materials to Mike Hill, Associate Director, Outreach Staff, Farm Service Agency, USDA, STOP 0511, Room 3716-S, 1400 Independence Avenue, SW., Washington, DC 20250-0511.

5. Intergovernmental Review

Not applicable.

6. Funding Restrictions

Cooperative agreement funds cannot be used to:

(a) Support the organization's general operations;

(b) Plan, repair, rehabilitate, acquire, or construct a building or facility (including a processing facility);

(c) Purchase, rent, or install fixed equipment, including mobile and other processing equipment;

(d) Pay for the preparation of the grant application;

(e) Pay expenses not directly related to the funded venture;

(f) Fund political or lobbying activities;

(g) Pay costs incurred prior to receiving a Cooperative Agreement;

(h) Fund any activity prohibited by 7 CFR parts 3015, 3016, and 3019;

(i) Fund architectural or engineering design work for a specific physical facility; or

(j) All relevant material and documentation addressing the criteria in section VI(1) of this NOFA.

VI. Application Review Information

1. Criteria

The proposal will be evaluated using the following criteria and weights. Each criterion must be addressed specifically and individually by category. These criteria should be in narrative form with any specific supporting documentation attached as addenda and directly following the proposal narrative. If other materials, including financial statements, will be used to support any evaluation criteria, they should also be placed directly following the proposal narrative. The applicant must also propose and delineate significant agency participation in the project. Failure to address any one of the criteria will disqualify the application. All proposals must be in compliance with this NOFA and applicable statutes.

(a) Proposers Commitment and Resources (15 points)—The standard evaluates the degree to which the organization is committed to the project, and the experience, qualifications, competency, and availability of personnel and resources to direct and carry out the project. Additionally, the applicant must demonstrate its ability to deliver these credit outreach services utilizing the FSA Online Business Plan software program upon acceptance of any financial award.

(b) Feasibility and Policy Consistency (20 points)—The standard evaluates the degree to which the proposal clearly describes its objectives and evidences a high level of feasibility. This criterion relates to the adequacy, soundness of the proposed approach to the solution of the problem and evaluates the plan of operation, timetable, evaluation and dissemination plans.

(c) Detailed description of the anticipated number of underserved American Indian farmers, ranchers, and youths to be served by this initiative and collaborative partnerships, if any (20 points)—This standard evaluates the degree to which the proposal reflects partnerships and collaborative initiatives with other agencies or organizations to enhance the quality and effectiveness of the program. Additionally, the areas and number of underserved American Indian farmers, ranchers and youth who would benefit from the services offered will be evaluated.

(d) American Indian Applicants—Outreach (10 points)—This standard evaluates the degree to which the proposal contains efforts to reach persons identified as American Indian farmers, ranchers and youth. The proposal will be evaluated for its potential for encouraging and assisting American Indian farmers, ranchers, and youths to utilize the various FSA agriculture credit programs. Elements considered include impact, continuation plans, innovation, and expected products and results.

(e) Innovative Strategies (25 points)—This standard evaluates the degree to which the proposal reflects innovative strategies for reaching the population targeted in the proposal and achieving the project objectives. Elements also evaluated include evidence that the applicant has in place, or has demonstrated the ability to put in place, a data tracking system that thoroughly records all credit outreach specific related activities and has the ability to provide detailed statistical information on an ad hoc basis, with additional evidence supporting its ability to function on a real-time basis as well its ability to be available online through the Internet, and originality, practicality, and creativity in developing and testing innovative solutions to existing or anticipated credit issues or problems of American Indian farmers, ranchers, and youths. The proposal will be reviewed for its responsiveness to the need to provide American Indian farmers, ranchers, and youths with promotion, relevant information, and direct assistance in applying for and receiving FSA agriculture credit, and other essential information to enhance participation in agricultural programs and conducting a successful farming or ranching operation.

(f) Overall Quality of the Proposal (5 points)—This standard evaluates the degree to which the proposal complies with this NOFA and is of high quality. Elements considered include adherence to instructions, accuracy and completeness of forms, clarity and organization of ideas, thoroughness and sufficiency of detail in the budget narrative, specificity of allocations between targeted areas if the proposal addresses more than one area, and completeness of vitae for all key personnel associated with the project.

(g) Accuracy of Proposed Budget and Justification (5 points)—This standard evaluates the accuracy of the proposed budget and the accompanying budget justification and should sufficiently provide the reviewer with a detailed description of each budget category that includes categorical subtotals as well as an attached budget justification that clearly defines and explains each and every proposed budget line item.

2. Review and Selection Process

Prior to technical examination, a preliminary review will be made by FSA Outreach Staff for responsiveness to this solicitation. Proposals that do not fall within the solicitation guidelines or are otherwise ineligible will be eliminated from competition.

All responsive proposals will be reviewed by a panel of career National Office FSA and/or USDA Agency employees chosen to provide maximum expertise and objective judgment in the evaluation of proposals. The panel will review applications using the evaluation criteria stated above for eligibility, completeness, and responsiveness to this NOFA. Incomplete or non-responsive applications will be returned to the applicant and not evaluated further. If the submission deadline has not expired and time permits, ineligible applications may be returned to the applicants for possible revision.

Successfully evaluated proposals will be ranked by the FSA Outreach Staff based on merit. Final approval of those proposals will be made by the Administrator of FSA.

When the reviewers have completed their individual evaluations, the panel reviewers, based on the individual reviews, will make recommendations to the Administrator. Prior to award, the Administrator reserves the right to negotiate with an applicant or applicants whose projects are recommended for funding regarding project revisions (e.g., change in scope of work or the Agency's significant involvement), funding level, or period of support. A proposal may be withdrawn at any time before a final funding decision is made.

VI. Award Administration

1. Award Notices

The successful applicant will be notified by FSA when selected by the Administrator. Within the limit of funds available for such purpose, the Administrator shall enter into a cooperative agreement with the successful applicant. The successful applicant will be required to sign an agency-approved cooperative agreement.

2. Access to Panel Review Information

Upon written request from the applicant, scores from the evaluation panel, not including the identity of reviewers, will be sent to the applicant after the review and awards process has been completed.

3. Administrative and National Policy Requirements

In addition to the requirements provided in this notice, other Federal statutes and regulations apply to proposals considered for review and to the cooperative agreement awarded. These include, but are not limited to:

(a) 7 CFR part 15, subpart A—Nondiscrimination in Federally-Assisted Programs of the Department of Agriculture—Effectuation of Title VI of the Civil Rights Act of 1964;

(b) 7 CFR part 3015—Uniform Federal Assistance Regulations;

(c) 7 CFR part 3016—Uniform Administrative Regulations for Grants and Cooperative Agreements and State and Local Governments.

(d) 7 CFR part 3017—Government wide Debarment and Suspension (Non-procurement) and Government wide Requirements for Drug-Free Workplace (Grants);

(e) 7 CFR part 3018—New Restrictions on Lobbying;

(f) 7 CFR part 3019—Uniform Administrative Requirements for Grants and Agreements with Institutions of Higher Education, Hospitals, and Other Non-profit Organizations; and

(g) 7 CFR part 3052—Audits of States, Local Governments, and Non-Profit Organizations.

4. Reporting

Cooperators will be required to:

(a) Sign required Federal grant-making forms including:

i. Form AD-1047, Certification Regarding Debarment, Suspension, and Other Responsibility Matters—Primary Covered Transactions;

ii. Form AD-1048, Certification Regarding Debarment, Suspension, Ineligibility and Voluntary Exclusion—Lower Tier Covered Transactions;

iii. Form AD-1049, Certification Regarding a Drug-Free Workplace Requirements (Grants); and

iv. Form RD 400-4, Assurance Agreement (Civil Rights).

(b) Use Standard Form 270, Request for Advance or Reimbursement to request payments.

(c) Submit form SF-269, Financial Status Report and list expenditures according to agreed upon budget categories on a semi-annual basis. A semi-annual financial report is due within 45 days after the first 6-month project period and an annual financial report is due within 60 days after the second 6-month project period.

(d) Submit quarterly performance reports that compare accomplishments to the objectives; if established objectives are not met, discuss problems, delays, or other problems that may affect completion of the project; establish objectives for the next reporting period; and discuss compliance with any special conditions on the use of awarded funds.

(e) Maintain a financial management system that is acceptable to the Agency.

(f) Submit a final project performance report.

VII. Agency Contact

For further information contact: Mike Hill, Associate Director, Outreach Staff, Farm Service Agency, USDA, STOP 0511, Room 3716-S, 1400 Independence Avenue, SW., Washington, DC 20250-0511, phone: (202) 690-1299, fax: (202) 690-4727, or e-mail: mike.hill@wdc.usda.gov.

VIII. Other Information

1. Dun and Bradstreet Data Universal Numbering System (DUNS)

A DUNS number is a unique nine-digit sequence recognized as the universal standard for identifying and keeping track of over 70 million businesses worldwide. The Office of Management and Budget published a notice of final policy issuance in the Federal Register June 27, 2003 (68 FR 38402) that requires a DUNS number in every application (i.e., hard copy and electronic) for a grant or cooperative agreement on or after October 1, 2003. Therefore, potential applicants should verify that they have a DUNS number or take the steps needed to obtain one. For information about how to obtain a DUNS number, go to http://www.grants.gov. Please note that the registration may take up to 14 business days to complete.

2. Required Registration for Electronic Submission of Proposals

The Central Contract Registry (CCR) is a database that serves as the primary Government repository for contractor information required for the conduct of business with the Government. This database will also be used as a central location for maintaining organizational information for organizations seeking and receiving grants from the Government. Such organizations must register in the CCR prior to the submission of applications. A DUNS number is needed for CCR registration. For information about how to register in the CCR, visit “Get Started” at the Web site, http://www.grants.gov. Allow a minimum of 5 days to complete the CCR registration.

Signed in Washington, DC on September 3, 2004.
James R. Little,
Administrator, Farm Service Agency.

[FR Doc. 04-20966 Filed 9-16-04; 8:45 am]

BILLING CODE 3410-05-P